DEPARTMENT OF EDUCATION

[Docket ID ED-2023-OELA-0022]

Request for Information Regarding Interpreters and Translators in Education

AGENCY: Office of English Language Acquisition, Department of Education.

ACTION: Request for information.

SUMMARY: The Office of English Language Acquisition (OELA) provides national leadership to help ensure that English learners, including immigrant children and youth, attain English proficiency and achieve academic success. Additionally, OELA is committed to preserving heritage languages and cultures and promoting opportunities for biliteracy or multiliteracy skills for all students. Through this request for information (RFI), OELA seeks public input to help the U.S. Department of Education (the Department) discover what practices are currently being used to recruit, hire, train, and retain interpreters and translators ¹ for services within early childhood through secondary educational settings.

¹ For the purposes of this RFI, we define interpreters and translators according to the U.S. Bureau of Labor Statistics definition: “Interpreters and translators convert information from one language into another language. Interpreters work in spoken or sign language; translators work in written language.” Available at https://www.bls.gov/ooh/media-and-communication/interpreters-and-translators.htm

DATES: We must receive your comments on or before March 27, 2023.

ADDRESSES: Comments must be submitted via the Federal eRulemaking Portal at regulations.gov. However, if you require an accommodation or cannot otherwise submit your comments via regulations.gov, please contact the program contact person listed under FOR FURTHER INFORMATION CONTACT.

Federal eRulemaking Portal: Go to www.regulations.gov to submit your comments electronically. Information on using Regulations.gov, including instructions for accessing agency documents, submitting comments, and viewing the docket, is available on the site under “FAQs.”

Privacy Note: The Department's policy is to make all comments received from members of the public available for public viewing in their entirety on the Federal eRulemaking Portal at www.regulations.gov. Therefore, commenters should be careful to include in their comments only information that they wish to make publicly available. Commenters should not include in their comments any information that identifies other individuals or that permits readers to identify other individuals.

This is an RFI only. This RFI is not a request for proposal (RFP) or a promise to issue an RFP or a notice inviting applications. This RFI does not commit the Department to contract for any supply or service whatsoever. Further, we are not seeking proposals and will not accept unsolicited proposals. The Department will not pay for any information or administrative costs that you may incur in responding to this RFI. The documents and information submitted in response to this RFI become the property of the U.S. Government and will not be returned.

FOR FURTHER INFORMATION CONTACT: Melissa Escalante, U.S. Department of Education, 400 Maryland Avenue SW, Washington, DC 20202. Telephone: (202) 245-8385. Email: Melissa.Escalante@ed.gov.

If you are deaf, hard of hearing, or have a speech disability and wish to access telecommunications relay services, please dial 7-1-1.

SUPPLEMENTARY INFORMATION:

Background

Interpreters and translators currently work in educational settings across the United States, and they play a critical role within schools and educational settings in relaying important, accurate written or oral information to educators and parents or legal guardians.

Despite the consistent need for interpreters and translators in high stakes meetings that impact students' educational experiences and paths to success, there is not an established set of common industry standards for interpreters and translators in the field of education. Without common standards, it is unclear how many interpreters and translators within the education community have training, experience, and certification in fields related to language services.

OELA's stakeholders within the educational community have expressed concerns that the communication that takes place between educators, students, parents, families, and legal guardians may be adversely impacted if an interpreter or translator is not prepared to navigate the intricacies of “student pathway to success” meetings (e.g., meetings that address Individualized Education Programs (IEPs), Individualized Family Service Plans (IFSPs), Section 504 plans, disciplinary action, or extracurricular or advanced learning opportunities). The Department would like to further strengthen our commitment to support English learner students and families under Titles I and III of the Elementary and Secondary Education Act (ESEA), which require that communications be provided in an understandable format and, to the extent practicable, in a language that parents, guardians, and communities understand, and that school districts and service providers conduct outreach to parents or legal guardians of English learners, including by holding regular meetings.²

² See Sections 1112(e)(3) and (e)(4) and 3115(c)(3) of the ESEA; furthermore, in order for public schools to comply with their legal obligations under Title VI of the Civil Rights Act of 1964 (Title VI), they must take affirmative steps to ensure that students with limited English proficiency can meaningfully participate in their educational programs and services. Public schools must also ensure parents and guardians with limited language proficiency have meaningful access to district and school-related information. See Lau v. Nichols, 414 U.S. 563 (1974); 42 U.S.C. 2000d to d-7 (prohibiting race, color, and national origin discrimination in any program or activity receiving Federal financial assistance); and Dear Colleague Letter, English Learner Students and Limited English Proficient Parents, Departments of Education and Justice, January 2015, available at https://www2.ed.gov/about/offices/list/ocr/letters/colleague-el-201501.pdf.

The Department is interested in learning what practices, methods, standards, and procedures are being used by States and districts to recruit, hire, train, and retain interpreters and translators who are familiar with and skilled in educational settings. OELA is interested in compiling this information and furthering the conversation regarding interpreters and translators to help support all students to succeed academically.

We will review every comment, and, as described above, electronic comments in response to this RFI will be publicly available on the Federal eRulemaking Portal at www.regulations.gov. Please note that OELA will not directly acknowledge or respond to comments, including comments that contain specific questions or inquiries. Receipt of comments in response to this request for information does not imply that OELA has decided to issue guidance, technical assistance, or other resources.

Solicitation of Comments

OELA invites stakeholders who are aware of policies and practices that are specifically relevant to interpreters and translators in all education settings across States, districts, and schools to address the questions below in their comments.

Standards and Practices

1. What are the standards and practices used for selecting interpreters and translators?

2. What technical support activities related to interpretation and translation can you identify and share? Are the technical support activities consistent across the State or districts?

3. Under what circumstances are interpreter and translator services utilized? What types of tasks, activities, or situations are interpreter and translator services used for? Examples might include oral and written communication related to school events or student services, parent-teacher conferences, and programs implemented to identify English language learners, IEP or 504 meetings.

4. How are interpreters and translators staffed by the school or program? Are they permanent employees who are either on-site or available as needed, or are they acquired through a service contract and available on demand?

5. How are interpreter and translator services funded?

6. When and how do districts determine if a translator or interpreter is needed?

Written Policies

7. What written policies do you rely on regarding interpreter and translator services? What policies, if any, are there on standards or practices at the State or district level?

8. What research, if any, was used to draft policies and procedures related to interpretation and translation?

Training

9. What training is required for initial certification as well as for maintaining the certification of interpreters and translators?

10. What trainings are provided to school staff or volunteers to facilitate the coordination of interpreter and translator services for families and students?

Data

11. What data, if any, can you share on the use of interpreters and translators? For example, how often are the services requested by school staff or students, parents, or legal guardians? How are the services categorized? Are the services primarily oral, written, or both?

Commenters are encouraged to include written policies and procedures used by schools, districts, or States.

The Department is committed to improving the public's access to, and the discoverability of, education research. In service of that goal, we encourage responders to share any publications with us, and we invite authors, those who hold copyright, or their authorized representatives to consider depositing eligible content into ERIC, the Institute of Education Sciences' bibliographic and full-text database of education research (https://eric.ed.gov/). More information about submitting content to ERIC, including our selection policy and how to access the online submission portal, can be found at https://eric.ed.gov/submit/.

Accessible Format: On request to the program contact person listed under FOR FURTHER INFORMATION CONTACT, individuals with disabilities can obtain this document in an accessible format. The Department will provide the requestor with an accessible format that may include Rich Text Format (RTF) or text format (txt), a thumb drive, an MP3 file, braille, large print, audiotape, or compact disc, or other accessible format.

Electronic Access to This Document: The official version of this document is the document published in the Federal Register. You may access the official edition of the Federal Register and the Code of Federal Regulations at www.govinfo.gov. At this site you can view this document, as well as all other documents of this Department published in the Federal Register, in text or Portable Document Format (PDF). To use PDF, you must have Adobe Acrobat Reader, which is available free at the site.

You may also access documents of the Department published in the Federal Register by using the article search feature at www.federalregister.gov. Specifically, through the advanced search feature at this site, you can limit your search to documents published by the Department.

The Department of Education is committed to making its publications available to all members of the public. If you have difficulty understanding English, you may, free of charge, request language assistance services for Department information by calling 1-800-USA-LEARN (1-800-872-5327) (TTY: 1-800-877-8339), or email us at Ed.Language.Assistance@ed.gov.

Montserrat Garibay,
Acting Assistant Deputy Secretary and Director, Office of English Language Acquisition.

[FR Doc. 2023-02612 Filed 2-7-23; 8:45 am]

BILLING CODE 4000-01-P